ENVIRONMENTAL PROTECTION AGENCY

[FRL-8184-2]

Gulf of Mexico Program Office Funding Opportunity

AGENCY: Environmental Protection Agency (EPA).

ACTION: Notice; announcement of funding opportunity.

SUMMARY: An estimated amount of $3,000,000 for ten to fifty cooperative agreements may be awarded under this announcement to eligible applicants for projects that improve the health of the Gulf of Mexico by addressing improved water quality and public health, priority coastal habitat protection/recovery, more effective coastal environmental education, improved habitat identification/characterization data and decision support systems, and strategic nutrient reductions. Projects must involve stakeholders and focus on support and implementation of the Gulf of Mexico Alliance Governors' Action Plan for Healthy and Resilient Coasts.

DATES: Deadline for Submissions is 6 p.m., Central Time, July 11, 2006.

ADDRESSES: Submissions should be sent electronically to GMP.Proposals@epa.gov or through with the http://www.grants.gov. Electronic messages must use the subject line: GMP Proposal Submission.

FOR FURTHER INFORMATION CONTACT: Esther Coblentz, Gulf of Mexico Program Office, at (228) 688-1281 or coblentz.esther@epa.gov.

SUPPLEMENTARY INFORMATION:

Overview Information

Federal Agency Name: U.S. Environmental Protection Agency, Gulf of Mexico Program Office.

Funding Opportunity Title: Gulf of Mexico Alliance Regional Partnership Projects.

Announcement Type: Initial Announcement.

Funding Opportunity Number: EPA-GM-2006-1.

Catalog of Federal Domestic Assistance (CFDA) Number: 66.475—Gulf of Mexico Program http://www.cfda.gov.

Dates: The deadline for submissions is July 11, 2006, 6 p.m. CST. Proposals must be submitted by electronic mail. For those applicants who lack the technical capability to apply either by e-mail to GMP.proposals@epa.gov or through http://www.grants.gov, please contact Esther Coblentz at (228-688-1281) and/or coblentz.esther@epa.gov for alternative submission methods. All Proposals must be received by EPA or through grants.gov by the closing date and will not be accepted after that date. For further information, see Section IV.

Funding Opportunity Description: An estimated amount of up to $3,000,000 for between approximately ten to fifty cooperative agreements may be awarded under this announcement to eligible applicants for projects that improve the health of the Gulf of Mexico by addressing improved water quality and public health, priority coastal habitat protection/recovery, more effective coastal environmental education, improved habitat identification/characterization data and decision support systems, and strategic nutrient reductions. Projects must actively involve stakeholders and focus on support and implementation of the Gulf of Mexico Alliance Governors' Action Plan for Healthy and Resilient Coasts.

I. Funding Opportunity Description

Background

The EPA Gulf of Mexico Program's (GMP) mission is to protect, restore, and enhance the coastal and marine waters of the Gulf and its natural habitats; to sustain living resources; to protect human health and the food supply; and to ensure the long-term use of the Gulf shores, beaches, and waters. To carry out the GMP mission, we must continue to develop and maintain a partnership of State and Federal agencies, local governments, academia, regional business and industry, agricultural and environmental organizations, and individual citizens and communities that effectively addresses the complex ecological problems that cross State, Federal, and international jurisdictions and boundaries.

Project Summary

EPA is issuing this Request for Proposals to strengthen and support the Gulf of Mexico Alliance Regional Partnership. The President's U.S. Ocean Action Plan released in December 2004 highlighted the Gulf of Mexico Alliance, a partnership formed by the five Gulf State Governors. The President called for increased integration of resources, knowledge and expertise to make the collaboration of the Gulf Alliance a success. See http://www.gulfofmexicoalliance.org. Thirteen Federal agencies formed a Federal Workgroup, with EPA and the National Oceanic and Atmospheric Administration (NOAA) as co-leads, committed to supporting the Alliance. The Gulf of Mexico Program is the lead for EPA.

The Alliance released the Governors' Action Plan for Healthy and Resilient Coasts on March 28, 2006. This Action Plan is intended to be a dynamic starting point for effective regional collaboration and addresses specific issues and projects which will result in a healthier Gulf of Mexico ecosystem and economy with a vision toward healthy and resilient coasts and communities in the Gulf of Mexico.

The Plan sets out a strategy with eleven actions addressing specific projects/activities that will deliver significant on-the-ground results to achieve the environmental outcomes of improved water quality for healthy beaches and shellfish beds; restored/protected coastal habitats; increased awareness/stewardship of the Gulf of Mexico; improved management of Gulf habitats; and reduced nutrient inputs to sustain productive Gulf aquatic ecosystems. These eleven actions are listed in this announcement under the following topic areas: Water Quality, Wetland and Coastal Restoration, Environmental Education, Identification and Characterization of Gulf Habitats, and Reducing Nutrient Inputs. The Gulf of Mexico Program is announcing the availability of funding to address the activities in the Action Plan. For more information on the Governors' Action Plan go to http://www.dep.state.fl.us/gulf/plan.htm.

Each of the Actions listed below includes a description of some of the expected outputs of projects addressing that Action and projects/activities for that Action. Applicant proposals must address one or more of the Actions listed under the topics below. Proposals may address actions under different topic areas, and more than one action may be addressed in the same proposal.

Water Quality

Action 1 (Harmful Algal Blooms): Establish a cooperative binational coastal observing and decision support system in the Gulf of Mexico for the advanced detection and forecasting of red tide (K. brevis) and for notifying public health managers. Educate the public to help reduce the human health, natural resource and economic impacts of bloom events.

Activities:

• Conduct an investigation of advanced technologies for rapid field screening and enhanced real-time remote sensing, platform sensing, and autonomous sensing of HABs.

• Conduct a study to evaluate and compare the multiple methods of HAB detection technologies under development for K. brevis against microscopic identification methods.

• Conduct studies, in collaboration with state and Federal partners throughout the region, to assess the public health, natural resources, and socioeconomic risks and impacts from HABs.

• Collaborate with existing Gulf State and Gulf Alliance programs to develop a strategic outreach plan to inform and educate the public about HABs and management actions taken to protect public health and to expand educational and outreach methods used to inform the public about HABs and their impacts.

• Serve as Project Manager to facilitate actions to support the expansion of Harmful Algal Blooms Observing System (HABSOS) to Veracruz, Mexico; to initiate and coordinate two workshops with local, state, and Federal expert scientists to implement a curriculum and training program for personnel in HAB field sampling and microscopic identification methods and to demonstrate toxin-detection methods; to provide training to Mexican personnel in sampling, identification, and enumeration and guide and assist Mexican personnel in establishing a sampling program for detection of K. brevis and other HAB species; and to provide status reports and accomplishments.

• Coordinate with Gulf partners and GCOOS (Gulf Coast Ocean Observing System) http://ocean.tamu.edu/GCOOS/gcoos.htm to support the expansion and pilot of the Harmful Algal Blooms Observing System to Veracruz, Mexico, with the operation of 2 meteorological stations off the coast of Veracruz, Mexico, and to integrate and standardize the efforts with those in SW Texas and South Florida. (See http://www.epa.gov/gmpo/habpage.html).

Outputs:

• Improve the current Harmful Algal Bloom (HAB) forecasting system off the Southwest Florida coast to better identify the onset of blooms and better predict the transport of blooms.

• Develop a satellite detection, forecasting, and internet-based notification capability for K. brevis off the southern coast of Texas.

• Develop a satellite detection and internet-based notification capability for K. brevis off the coast of the Mexican Gulf State of Veracruz.

Outcome:

• The environmental outcome to be accomplished from each of the above activities is to improve water quality to achieve healthy beaches and shellfish beds.

Action 2 (Bacterial Source Tracking): Ensure safe bathing beaches by advancing a practical, field-ready standardized bacterial source tracking method(s) to determine coastal waters with public health impairment and to identify the priority sources of bacterial pollution to remediate.

Activities:

• Conduct a “State of the Gulf” workshop on pathogen indicators in recreational marine waters, epidemiological correlations, and bacterial source tracking research, with an endpoint of selecting the site and designing the study and the parameters for evaluation.

• Conduct a comprehensive field evaluation of current bacterial source tracking capabilities.

• Conduct a workshop to evaluate the field evaluation results and select two methods for use in the pilot studies; select the pilot study areas.

• Pilot test the two preferred bacterial source tracking methodologies in five Gulf estuaries (with varying environmental conditions). Evaluate bacterial sources responsible for the contamination of shellfish growing waters in each of the five pilots.

• Conduct a final workshop to evaluate the results of pilot studies and prepare a final report.

• Train state and local personnel in specific bacterial source tracking methods. Assist the states in preparing and supporting strategies for the effective implementation of these effects Gulf-wide.

Outputs:

• Conduct a peer-reviewed field evaluation of current bacterial source tracking capabilities in an estuarine recreational area, and select two methodologies for intensive field testing/validation.

• Implement pilot testing of these two methods in five Gulf of Mexico estuaries with varying environmental conditions (preferably one location in each Gulf state).

Outcome:

• The environmental outcome to be accomplished from each of the above activities is to improve water quality to achieve healthy beaches and shellfish beds.

Action 3 (Data Collection): Maximize the efficiency and utility of water quality monitoring efforts for local managers by coordinating and standardizing state and federal water quality data collection activities in the Gulf region.

Activities:

• Host an annual Gulf of Mexico Forum for Environmental Monitoring to promote coordination of water quality monitoring by state, local, and federal agencies as proposed by the Governors' Action Plan.

• Develop accountability tools and accreditation standards for laboratories performing analyses included in Gulf-wide monitoring databases.

• Facilitate the selection of a pilot parameter for monitoring coordination and standardization by state and federal water quality agencies and GCOOS (leverage possible linkage to National Water Quality Monitoring Council regional pilot activities).

Outputs:

• Implement a regional pilot effort to coordinate and standardize state and federal water quality data collection activities in the Gulf region for one or more nutrient parameter(s) and/or one or more pathogens.

Outcome:

• The environmental outcome to be accomplished from each of the above activities is to improve water quality to achieve healthy beaches and shellfish beds.

Wetland and Coastal and Restoration

Action 1 (Restoration Coordination): Convene a Gulf of Mexico Alliance Regional Restoration Coordination Team, where Gulf States, federal agencies and other private sector partners can work together to identify regional priority sites for conservation and restoration and more successfully conserve and restore vital coastal habitat and wetlands.

Activities:

• Host workshops of the Gulf of Mexico Alliance Regional Restoration Coordination Team to determine Gulf-wide issues, inventory current restoration successes, and identify priority sites for restoration.

• Host a Gulf of Mexico interstate workshop on the importance of freshwater inflows to maintaining estuarine health including wetlands.

• Using the Gulf of Mexico Alliance Regional Restoration Coordination Team, propose possible resolutions for Federal/state environmental compliance issues that affect habitat restoration and conservation efforts, such as essential fish habitat (EFH), Endangered Species Act requirements, and Clean Water Act (e.g., Total Maximum Daily Loads).

• Devise a strategy to streamline certain Federal permitting requirements for wetland restoration.

• Identify administrative and legal processes in granting agencies that may either facilitate or impede wetland restoration and conservation project planning and implementation.

• Further develop public-private partnerships, such as the Corporate Wetlands Restoration Partnership, in all five Gulf States and incentives that support landowner conservation to increase funding opportunities for restoration. Ensure state and local governments are well-informed about partnership and incentive programs.

• Develop a Gulf Regional Sediment Management Master Plan to enable more effective use of dredged material, such as sand, to protect and restore important and vulnerable resources and habitats. Involve state, local, and Federal representatives in the planning process.

Outputs:

• Establish a Gulf of Mexico Alliance Regional Restoration Coordination Team.

• Through the Restoration Coordination Team, hold a series of meetings between Federal agencies and Gulf States to review existing regulatory, funding, and policy frameworks, and identify mechanisms that help facilitate or impede wetland conservation and restoration efforts.

• Hold a workshop on importance of freshwater inflows.

• Expand the Corporate Wetlands Restoration Partnership

• Develop a Gulf Regional Sediment Management Master Plan to enable more effective use of dredged material.

Outcome:

• The environmental outcome to be accomplished from each of the above activities is to restore/protect coastal habitats and increase wetlands.

Action 2 (Increase Scientific Understanding): Increase the Gulf States' scientific understanding of the implications and risks of localized sea level rise, storm surge and subsidence through development of tools that integrate these processes, such as integrated models.

Activities:

• Enhance the coast-wide network of elevation benchmarks, including the Continuously Operating Reference System (CORS), to deliver subsidence rates accurate to 1 millimeter per year.

• Obtain information on projected relative sea level rise, subsidence, and storm vulnerability to help prioritize conservation projects, including restoration, enhancement, and acquisition.

• Develop and apply aquatic ecosystem models to forecast the habitat structure and succession following hurricane disturbance and changes in ecological functions and services that impact vital socioeconomic aspects of coastal systems.

Outputs:

• Develop a prototype decision-support tool that allows Gulf resource managers to integrate storm surge, sea level rise, and subsidence information for at least one pilot area on the Gulf Coast and the use of the tool in determining water quality impacts.

• Develop a pilot Community Resiliency Index for Gulf coastal communities.

Outcome:

• The environmental outcome to be accomplished from each of the above activities is to restore/protect coastal habitats and increase wetlands.

Environmental Education

Action 1 (Awareness and Stewardship): Build awareness and stewardship ethics among Gulf citizens by coordinating education and outreach activities across the Gulf States to increase access to materials and programs that address Gulf of Mexico Alliance priority issues. Translate, communicate and disseminate relevant scientific data and information to the public, including students, educators, resource managers, local decision-makers and the business community.

Activities:

• Serve as a Gulf of Mexico Alliance Network Coordinator for a term of at least 3 years, who will serve as staff to the Network, facilitate Alliance communications, and coordinate regional education and outreach activities.

• Coordinate a planning workshop of the newly established Network at the Rookery Bay National Estuarine Research Reserve (NERR), Naples, Florida, (http://www.rookerybay.org) to review priority goals, actions and funding needs in Gulf coast education and outreach, and build an effective communications strategy for the Alliance. The workshop will culminate in the formulation of a strategic plan that will guide the initial activities of the Network.

Establish a Coastal Ecosystem Learning Center (CELC) in each of the five Gulf States and in one Mexican State that borders the Gulf. http://www.coastalamerica.gov.

• Develop and host a pilot program to engage underrepresented and underserved communities in Gulf stewardship activities related to the Gulf of Mexico Alliance strategic priorities.

• Design and host a Web site to support education and outreach efforts of the Network, including a electronic clearinghouse to disseminate effective Gulf coast related educational information and materials via the Internet.

Outputs:

• Convene a binational Gulf of Mexico Alliance Environmental Education and Outreach Network, with dedicated staff, to (1) coordinate educational and outreach activities that address Alliance priority issues, and (2) establish effective methods to disseminate materials and programs throughout Gulf coastal communities.

• Coordinate with the existing Coastal Ecosystem Learning Center networks as they are expanded to each of the five U.S. Gulf States and the Mexican Gulf State of Veracruz. See http://www.coastalamerica.gov.

• Develop an environmental education pilot program targeted towards under-represented and under-served communities in the Gulf region.

Outcome:

• The environmental outcome to be accomplished from each of the above activities is to increase awareness/stewardship among Gulf residents to establish the link between the health of the Gulf and quality of life of residents.

Action 2 (Environmental Awareness): Promote an environmentally literate citizenry who understands the relevance of the Gulf of Mexico watersheds and coasts to the quality of their everyday lives and to the economic vitality of the region and the nation. Increase environmental stewardship in the practices and activities of Gulf coast local governments and businesses.

Activities:

• Design and conduct a strategic public awareness campaign that will encourage Gulf stewardship and coastal hazard identification and prevention.

• Coordinate funding sources to sustain the public awareness campaign in the short-term (within 36 months) and long-term (after 36 months).

Outputs:

• Develop and implement a comprehensive, 36-month (minimum) public awareness campaign to promote stewardship messages associated with the other four Alliance priority issues and community hurricane preparedness.

Outcome:

• The environmental outcome to be accomplished from each of the above activities is to increase awareness/stewardship among Gulf residents to establish the link between the health of the Gulf and quality of life of residents.

Identification and Characterization of Gulf Aquatic Habitats

Action 1 (Identify and Assess Gulf Habitats): Identify and assess the location, extent, variation and condition of priority coastal, estuarine, nearshore and offshore Gulf habitats and establish a baseline information and mapping system. The system will provide comprehensive access to uniform, quality-assured coastal habitat observations in the Gulf region by developing an Internet-accessible, geospatial database of local, state, and Federal data sources.

Activities:

• Coordinate Federal and state collection of information and complete an inventory of existing habitat data and initiate a gap analysis. This inventory will identify available data and associated metadata. The inventory will have both a regional and local scope and will focus on mapping and restoration projects. Products will include: (a) User Needs Assessment; (b) Inventory of Gulf of Mexico Habitat Data; and (c) Assessment of Priority Gulf of Mexico Habitat Data Needs.

• Establish the Federal Data Management Group (FDMG), a team to work with state, local, and Federal entities to identify specific requirements for a regional data management platform and portal.

• Establish a standard metadata format to streamline metadata development and maintenance at the state, local, and Federal level.

• Establish a data management platform and portal that will provide access and delivery of existing state, local, and Federal data.

• Provide training on data management equipment to Gulf state agencies.

• Provide GIS and metadata training to state and local resource managers in the five Gulf States.

Output:

• Produce a prototype Web portal to provide public access to and delivery of current and historic state, Federal, and local Gulf of Mexico habitat data, with the initial focus on sea grass beds. Users will be able to search a digital library for habitat information by keyword or geographic location, preview geospatial data, and download selected data products. The portal will also demonstrate the feasibility of building a distributed system that will enable users to request and retrieve data directly from the agencies holding the original data.

Outcome:

• The environmental outcome to be accomplished from each of the above activities is to sustain the quality of Gulf habitats.

Reducing Nutrient Inputs

Action 1 (Nutrient Criteria): Establish a regional coordination venue to coordinate knowledge, resources and tools for the development of nutrient criteria in Gulf coastal ecosystems.

Activities:

• Convene the Coordination Team and a technical conference to synthesize the state of knowledge regarding nutrient levels and develop a plan for regional coordination.

• Use information gained from the Northern Gulf Estuarine Pilot Project to identify one or more estuaries to apply the methods and lessons learned from the Northern Gulf Estuarine Pilot Project. Establish and implement a regional communications plan. At the direction of the State lead(s), facilitate the identification of at least three targeted estuaries (one in each of the northern Gulf States) for trial application of the lessons learned through the course of this study.

• Identify and coordinate federal, state, and local monitoring efforts and data management systems to support development of nutrient criteria.

• Present a comprehensive assessment of Gulf nutrient monitoring program needs to the National Water Quality Design Team.

• Inventory modeling needs to deal with nutrient issues under permitting, TMDL development, and nutrient criteria development.

• Develop a library/database of marine and estuarine species for site specific D.O. criteria development.

Output:

• Establish a Gulf of Mexico Alliance Nutrient Criteria Coordination Team of state and federal representatives to meet the needs of the Gulf States through improved coordination among existing local, state, regional, and national nutrient reduction programs.

Outcome:

• The environmental outcome to be accomplished from each of the above activities is to reduce nutrients in Gulf waters to achieve healthy and resilient coastal ecosystems.

Action 2 (Nutrient Prevention and Reduction): During recovery and rebuilding efforts in the Gulf region, apply innovative practices and technologies to restore fishing and recreational uses in key coastal watersheds impaired by excessive nutrient inputs.

Activities:

• Identify key coastal watersheds with significant nutrient impacts, sensitive waters, and a high likelihood of successful restoration of fishing and recreational uses.

• Identify communities conducting infrastructure rebuilding activities where nutrient reduction can be achieved through improved infrastructure planning and design.

• Identify and prioritize implementation and coordination opportunities for existing Federal, state, and local programs in key coastal watersheds and communities conducting infrastructure rebuilding activities.

• Provide technical assistance to interested local governments to improve infrastructure planning and design.

• Evaluate the effectiveness of nutrient reduction activities in key coastal watersheds and rebuilding communities and develop techniques to improve effectiveness.

• Map communities served by advanced wastewater treatment systems to help develop strategies for remediation activities.

Output:

• Perform a study on nutrient prevention and reduction activities in Gulf communities improving or rebuilding infrastructure.

Outcome:

• The environmental outcome to be accomplished from each of the above activities is to reduce nutrients in Gulf waters to achieve healthy and resilient coastal ecosystems.

Action 3 (Hypoxia): Coordinate among the Gulf States to develop a unified position shared by all Gulf States to advocate actions—by all 31 states in the Mississippi River Watershed—to reduce Gulf hypoxia.

Activities:

• Assist in the completion of a comprehensive assessment of the Gulf Hypoxia Action Plan.

• Provide Gulf States information on point and non-point source pollution in the Mississippi River Basin and the ecological and economic impacts of the Gulf of Mexico Hypoxic Zone on natural resources such as fish and shellfish.

• Establish effective Mississippi River Basin-wide agricultural partnerships to better facilitate strategic voluntary nutrient reductions.

Output:

• Develop and represent a consistent five Gulf State position on the need to reduce Gulf hypoxia, in venues such as the Mississippi River/Gulf of Mexico Watershed Nutrient Task Force.

Outcome:

• The environmental outcome to be accomplished from each of the above activities is to reduce nutrients in Gulf waters to achieve healthy and resilient coastal ecosystems and reduce the size of the hypoxic zone.

Alignment to EPA's Strategic Plan

Successful proposals must have clear and measurable environmental results directly related to EPA's Strategic Plan. Awards resulting from this announcement must relate to Goal 4: Healthy Communities and Ecosystems—Protect, sustain or restore the health of people, communities, and ecosystems using integrated and comprehensive approaches and partnerships; Objective 4.3: Ecosystems—Protect, sustain, and restore the health of critical natural habitats and ecosystems; and Subobjective 4.3.5: Improve the Health of the Gulf of Mexico. For more information on EPA's Strategic Plan go to: http://epa.gov/ocfopage/plan/plan.htm.

Measuring Environmental Results

Pursuant to EPA Order 5700.7, “Environmental Results under EPA Assistance Agreements,” EPA requires that all grant recipients adequately address environmental outputs and outcomes. Outputs and outcomes differ both in their nature and in how they are measured. Applicants must discuss environmental outputs and outcomes in their proposed workplan.

1. Outputs: The term “output” means an environmental activity, effort, and/or associated work products related to an environmental goal and objective, that will be produced or provided over a period of time or by a specified date. Outputs may be quantitative or qualitative but must be measurable during an assistance agreement funding period.

Expected outputs from the projects funded under this announcement are listed with each of the Actions identified above.

2. Outcomes: The term “outcome” means the result, effect or consequence that will occur from carrying out an environmental program or activity that is related to an environmental or programmatic goal or objective. Outcomes may be environmental, behavioral, health-related or programmatic in nature, but must be quantitative. They may not necessarily be achievable within an assistance agreement funding period.

Statutory Authority

All proposals submitted will be reviewed for eligibility under section 104(b)(3) of the Clean Water Act. Assistance Agreements are authorized under this statutory authority to conduct and promote the coordination and acceleration of research, investigations, experiments, training, demonstrations, surveys, and studies relating to the causes, effects, extent, prevention, reduction, and elimination of pollution. The term “pollution” means the man-made or man-induced alteration of the chemical, physical, biological, and radiological integrity of water.

II. Award Information

Funding Amounts and Number of Awards

Under this funding opportunity, EPA expects to award an estimated $3,000,000 depending on availability of funds and the evaluation and quality of proposals. An estimated ten to fifty projects are expected to be awarded.

EPA reserves the right to make no awards under this announcement or make fewer than anticipated. EPA also reserves the right to offer partial funding of a proposal by funding discrete activities, portions, or phases of the proposed project. If EPA decides to partially fund the proposed project, it will do so in a manner that does not prejudice any applicants or affect the basis upon which the proposed project, or portion thereof, was evaluated and selected, and that maintains the integrity of the competition and the selection/evaluation process.

EPA reserves the right to make additional awards under this announcement consistent with Agency policy, if additional funding becomes available. Any additional selections for awards will be made no later than 4 months after the original selection decisions.

The period of performance for awards under this announcement is from 0.5 years to three years.

Type of Award

Successful applicants will be issued a cooperative agreement. Cooperative agreements require substantial EPA involvement with the recipient in the form of programmatic oversight and review and comment on all agreement activities and products. When a cooperative agreement is awarded, EPA's involvement in carrying out the work with the applicant will be described in a selection letter and identified in the terms and conditions of the award document. In general, cooperative agreements awarded will be one-time awards and recipients should use the funds within the period of performance (from 0.5 years to three years).

III. Eligibility Information

Eligible Applicants

State and local governments, interstate agencies, tribes, colleges and universities, individuals, and other public or nonprofit organizations. EPA will require nonprofit organizations selected for funding to provide verification of their nonprofit status prior to the grant award.

Threshold Eligibility Criteria

Applicant proposals must meet all of the following threshold eligibility criteria by the time of proposal submission. Proposals that fail to meet all of these criteria will not be considered for funding. Applicants deemed ineligible for funding consideration as a result of the threshold eligibility review will be notified within 15 calendar days of the ineligibility determination.

1. Proposed projects must be consistent with the Clean Water Act section 104(b)(3) authority. All proposals submitted will be reviewed for eligibility under section 104(b)(3) of the Clean Water Act (CWA). Water Quality Cooperative Agreements are authorized under this statutory authority to conduct and promote the coordination and acceleration of research, investigations, experiments, training, demonstrations, surveys, and studies relating to the causes, effects, extent, prevention, reduction, and elimination of pollution. The term “pollution” means the man-made or man-induced alteration of the chemical, physical, biological, and radiological integrity of water. Projects that implement “Best Management Practices” or any type of construction activities must qualify as a demonstration project under CWA section 104(b)(3). A demonstration project must involve new or experimental technologies, methods, or approaches, where the results of the project will be disseminated so that others can benefit from the knowledge gained in the demonstration project. A project that is accomplished through the performance of routine, traditional, or established practices, or a project that is simply intended to carry out a task rather than transfer information or advance the state of knowledge is not a demonstration.

2. Ineligible Activities: Applicants must adhere closely to the types of projects authorized for funding under CWA § 104(b)(3) in developing proposals. Unauthorized project types will be disqualified. Types of projects that are ineligible for funding are routine construction projects, except to a limited degree to demonstrate innovation, prevention, or removal of pollution; land acquisition; or projects that are largely general education/outreach or conferences unless they meet a clear need to accomplish a public purpose and are not for the direct benefit of EPA.

3. Proposals must address one or more of the Actions identified in Section I or they will be rejected. Proposals may address actions under different topic areas, and more than one action may be addressed in the same proposal.

4. Proposals must substantially comply with the proposal submission instructions and requirements set forth in Section IV of this announcement or they will be rejected.

In addition, proposals must be received by EPA or through http://www.grants.gov on or before the solicitation closing date published in Section IV of this announcement. Proposals received after the published closing date will be returned to the sender without further consideration.

Matching Requirements

There is no matching requirement; however, the extent of partnerships and leveraged funding will be considered by reviewers during the evaluation process. (See Section V).

Matching funds are considered to be cooperative agreement funds and may be used for reasonable and necessary expenses of carrying out the project described in the Final Project Workplan. Any restrictions on the use of grant funds, including project budget periods, also apply to the use of matching funds. All project expenditures, including both the Federal and nonfederal share, are subject to Federal regulations governing the use of Federal funds. Other Federal money cannot be used as match unless authorized by the statute governing the award of the other Federal funds. Reductions to the amount of the match after a proposal is selected for funding may result in loss of funding.

IV. Application and Submission Information

A. Content and Format of Project Proposals

• Follow the proposal format and instructions provided below.

• Use only Microsoft Word or Adobe Acrobat for electronic submissions.

• Use only one method to submit your proposal.

Examples from Previous Years.

When developing project submissions, you may look at types of successful projects from previous years, available at http://www.epa.gov/gmpo.

B. Submission Dates and Times

• Regardless of mode of submission, proposal packages must be received by EPA at GMP.proposals@epa.gov or through http://www.grants.gov by July 11, 2006, 6 p.m. CST. Proposals received after this time will be disqualified.

• Use an e-mail return receipt for verification of receipt if you want to confirm delivery.

C. Proposal Submission Instructions

Applicants are encouraged to apply electronically via e-mail or online using the Grants.gov Web site with an electronic signature—please only use one method. For those applicants who lack the technical capability to apply either by e-mail or through Grants.gov, please contact Esther Coblentz (228-688-1281) and/or coblentz.esther@epa.gov for alternative submission methods.

1. Instructions for E-Mail Submissions

Proposals must be e-mailed to GMP.proposals@epa.gov. The title of the e-mail should read “GMP Proposal Submission”. The proposal should be one attached file prepared as described in Section IV.E. Please do not zip the attached file—it will not be accepted. If you do not receive an email confirmation within five business days, please call Esther Coblentz at 228-688-1281.

2. Instructions for Submissions Using Grants.Gov

With Grants.Gov, you will be able to submit your entire proposal package on line with no hard copy or computer disks. Please be sure to view the additional instructions that are available for download on Grants.gov for this announcement and which are included below. If you have any technical difficulties while applying electronically, please refer to http://www.grants.gov/CustomerSupport or call the toll free Contact Center at 1-800-518-4726 or Esther Coblentz at 228-688-1281 or coblentz.esther@epa.gov.

If you wish to apply electronically via Grants.gov, the electronic submission of your proposal package must be made by an official representative of your institution who is registered with Grants.gov and authorized to sign applications for Federal assistance. For more information, go to http://www.grants.gov and click on “Get Started,” and then click on “For AORs” (Authorized Organization Representative) on the left side of the page.

Note that the registration process may take a week or longer to complete. If your organization is not currently registered with Grants.gov, please encourage your office to designate an AOR and ask that individual to begin the registration process as soon as possible.

To begin the application process, go to http://www.Grants.Gov and click on “Apply for Grants.” Following the online instructions, download PureEdge Viewer software and enter the Funding Opportunity Number, EPA--GM-2006-1, in the space provided to retrieve the application package. Then complete and submit the application package as indicated. You may also be able to access the application package by clicking on the button “How To Apply” at the top right of the synopsis page for this announcement on http://www.grants.gov (to find the synopsis page go to http://www.grants.gov and click on the “Find Grant Opportunities” button on the top of the page and then to go EPA opportunities).

Be sure to download and read the instructions and the application package at the Grants.Gov Web site.

Proposal Submission Deadline: Your organization's AOR must submit your complete proposal electronically to EPA through Grants.gov (http://www.grants.gov) no later than (insert date).

Proposal Materials.

The following forms and documents are required to be submitted by applicants using grants.gov under this announcement:

I. Standard Form (SF) 424, Application for Federal Assistance. Complete the form. There are no attachments. Please be sure to include organization fax number and email address in Block 5 of the Standard Form SF 424.

Please note that the organizational Dun and Bradstreet (D&B) Data Universal Number System (DUNS) number must be included on the SF-424. Organizations may obtain a DUNS number at no cost by calling the toll-free DUNS number request line at 1-866-705-5711.

II. Proposal Workplan.

Prepare as described in Section IV. E. of this announcement.

The proposal workplan must be readable in PDF or MS Word for Windows and consolidated into a single file.

Submission Instructions

Documents I and II listed under Proposal Materials above should appear in the “Mandatory Documents” box on the Grants.gov Grant Application Package page. For document I, click on the appropriate form and then click “Open Form” below the box. The fields that must be completed will be highlighted in yellow. Optional fields and completed fields will be displayed in white. If you enter an invalid response or incomplete information in a field, you will receive an error message. When you have finished filling out each form, click “Save.” When you return to the electronic Grant Application Package page, click on the form you just completed, and then click on the box that says, “Move Form to Submission List.” This action will move the document over to the box that says, “Mandatory Completed Documents for Submission.”

For document II, you will need to attach electronic files. Prepare your proposal workplan as described in Section IV.E. of the announcement and save the document to your computer as an MS Word or PDF file. When you are ready to attach your proposal workplan to the application package, click on “Project Narrative Attachment Form,” and open the form. Click “Add Mandatory Project Narrative File,” and then attach it (previously saved to your computer) using the browse window that appears. You may then click “View Mandatory Project Narrative File” to view it. Enter a brief descriptive title of your project in the space beside “Mandatory Project Narrative File Filename;” the filename should be no more than 40 characters long. If there are other attachments that you would like to submit to accompany your proposal, you may click “Add Optional Project Narrative File” and proceed as before. When you have finished attaching the necessary documents, click “Close Form.” When you return to the “Grant Application Package” page, select the “Project Narrative Attachment Form” and click “Move Form to Submission List.” The form should now appear in the box that says, “Mandatory Completed Documents for Submission.”

Once you have finished filling out all of the forms/attachments and they appear in one of the “Completed Documents for Submission” boxes, click the “Save” button that appears at the top of the Web page. It is suggested that you save the document a second time, using a different name, since this will make it easier to submit an amended package later if necessary. Please use the following format when saving your file: “Applicant Name—FY 06—Assoc Prog Supp—1st Submission” or “Applicant Name—FY 06 Assoc Prog Supp—Back-up Submission.” If it becomes necessary to submit an amended package at a later date, then the name of the 2nd submission should be changed to “Applicant Name—FY 06 Assoc Prog Supp—2nd Submission.”

Once your application package has been completed and saved, send it to your AOR for submission to U.S. EPA through Grants.gov. Please advise your AOR to close all other software programs before attempting to submit the application package through Grants.gov.

In the “Application Filing Name” box, your AOR should enter your organization's name (abbreviate where possible), the fiscal year (e.g., FY 06), and the grant category (e.g., Assoc Prog Supp). The filing name should not exceed 40 characters. From the “Grant Application Package” page, your AOR may submit the application package by clicking the “Submit” button that appears at the top of the page. The AOR will then be asked to verify the agency and funding opportunity number for which the application package is being submitted. If problems are encountered during the submission process, the AOR should reboot his/her computer before trying to submit the application package again. [It may be necessary to turn off the computer (not just restart it) before attempting to submit the package again.] If the AOR continues to experience submission problems, he/she may contact Grants.gov for assistance by phone at 1-800-518-4726 or e-mail at support@grants.gov or contact Esther Coblentz at (228) 688-1281 and/or e-mail at coblentz.esther@epa.gov.

Application packages submitted thru grants.gov will be time/date stamped electronically. If you have not received a confirmation of receipt from EPA (not from support@grant.gov) within 30 days of the application deadline, please send an e-mail to coblentz.esther@epa.gov. Failure to do so may result in your application not being reviewed.

If you have never used Grants.Gov before, here are some tips. Most organizations have found Grants.Gov to be a user friendly system. The most frequent concern has occurred when an organization has delayed obtaining the unique electronic signature to the last minute.

Register for your electronic signature early! An electronic signature requires three levels of authorization before you can submit on line. You need to decide who will be the AOR, the caretaker of the electronic signature for your organization. At a university the Chief Grant Official generally signs all of the electronic grants for the entire institution. If all goes well, this process takes about a week, but some organizations have encountered internal and external delays; therefore the registration process can take longer.

Remember, you cannot submit your application online until your organization has e-authentication credentials. Here are the basic steps:

1. Obtain a Certified DUNS Number. You must first have a certified, unique Dun and Bradstreet Universal Data Numbering System (DUNS) number. Some organizations may have more than one DUNS number registered. Only one can be certified. This can lead to unanticipated delays.

2. Central Contractor Registry and Credential Provider Registration. Once you have your unique, approved DUNS number, you need to register with the Central Contractor Registry.

3. Grants.Gov Electronic Signature Authorization. Once steps A and B are complete, you will then need to contact Grants.Gov. The Authorized Organization Representative (AOR) will be assigned a password that will enable him or her to sign the Grants.Gov applications electronically. The AOR must be an individual who is able to make legally binding commitments for the applicant organization. Organizations may designate more than one AOR.

Be sure to download and read the instructions and the application at the Grants.Gov Web site.

D. DUNS Number

All applicants applying for funding, including renewal funding, must have a Dun and Bradstreet Universal Data Numbering System (DUNS) number. Applicants who do not already have a DUNS number may find instructions for obtaining one at the following Web site: http://www.Grants.Gov/GetStarted. A DUNS number may also be obtained by calling 1-866-705-5711.

Confidentiality

In accordance with 40 CFR 2.203, applicants may claim all or a portion of their application/proposal as confidential business information. EPA will evaluate confidentiality claims in accordance with 40 CFR part 2. Applicants must clearly mark applications/proposals or portions of applications/proposals they claim as confidential. If no claim of confidentiality is made, EPA is not required to make the inquiry to the applicant otherwise required by 40 CFR 2.204(c)(2) prior to disclosure.

Other Considerations

The funds associated with this announcement require Executive Order (E.O.) 12372, Intergovernmental Review of Federal Programs, review. E.O. 12372 structures the Federal government's system of consultation with states and local governments on its decisions involving grants, other forms of financial assistance, and direct development. Under E.O. 12372, states, in consultation with their local governments, design their own review process and select the Federal financial assistance and direct development activities they wish to review. If selected for funding, the recipient of the Federal assistance agreement will be required to send a copy of their application and proposal to the appropriate State Clearinghouse Office for an intergovernmental review, if applicable. (See: http://www.whitehouse.gov/omb/grants/spoc.html).

E. Proposal/Workplan Format

The proposal/workplan should include the following information:

Applicant Information

Applicant Information: Business Mailing and Contact information, including email address. DUNS number if Applicant Organization has one.

Type of Organization: State or local government, interstate agency, tribe, college or university, individual, or other public or nonprofit organizations.

Project Summary Information

Project Title.

Project Manager: Identify who will serve as the principal party responsible for accomplishing the activities.

Topic: Identify the Actions/Activities described in Section I of the announcement that the proposed project will address.

Brief Project Description: Summarize the project. Do not use acronyms.

Total Project Cost: Specify total amount requested from EPA, as well as any resources or funding from any other sources that are contributing support.

Duration: Specify project period of performance, from 0.5 years up to 3 years.

Geographic Applicability

Applicable Geographic Location: If applicable, geographic locations which would be most impacted by this project, include the Hydrologic Unit Code (HUC) for the Project location. HUCs can be found on EPA's Surf Your Watershed Web site at http://www.epa.gov/surf/locate/index.cfm.

Project Location: As applicable, enter City, County, and State(s).

Problem, Work, Results

Problem Statement: Describe the issue that will be addressed and its relevance to the Gulf of Mexico, particularly to the needs and priorities in the Gulf of Mexico Alliance Governors' Action Plan and EPA's Strategic Plan, Sub-objective 4.3.5 (Improve the Health of the Gulf of Mexico Ecosystem). Describe how the project will address one or more of the activities that are listed under the 11 Actions under the priority topic categories: Water Quality, Wetland and Coastal Restoration, Environmental Education, Identification and Characterization of Gulf Habitats, and Reducing Nutrient Inputs. These projects/activities will be considered for funding. Projects must actively involve stakeholders and focus on long-term partnership goals, integration of resources, knowledge and expertise.

Proposed Work: Describe what will be done and how. Many of the criteria in Section V should be addressed here.

Environmental Results: Describe anticipated environmental outputs and outcomes and their linkages to the problem statement. (See Outcomes/Outputs described in Section 1 and Environmental Results Order 5700.7 at: http://www.epa.gov/ogd/grants/award/5700.7.pdf). Specify affected pollutants, industry sectors, economic impacts, habitats, and/or species as applicable for the topic, and proposed progress toward delisting, toward restoration of beneficial use impairments, toward reducing nitrogen loading, etc.

Environmental Results Past Performance: Submit a list of federally funded assistance agreements that your organization performed within the last three years (no more than 5, and preferably EPA agreements) and describe how you documented and/or reported on whether you were making progress towards achieving the expected results (e.g., outputs and outcomes) under those agreements. If you were not making progress, please indicate whether, and how, you documented why not. In evaluating applicants under this factor in Section V, EPA will consider the information provided b y the applicant and may also consider other relevant information from other sources, including information from EPA files and from current and prior Federal agency grantors (e.g., to verify and/or supplement the information provided by the applicant). If you have no relevant or available past performance reporting history, please indicate this in the proposal, and you will receive a neutral score for this factor under Section V.

Programmatic Capability: Submit a list of federally funded assistance agreements similar in size, scope and relevance to the proposed project that your organization performed within the last three years (no more than 5, and preferably EPA agreements) and describe (i) whether, and how, you were able to successfully complete and manage those agreements and (ii) your history of meeting the reporting requirements under those agreements including submitting acceptable final technical reports. In evaluating applicants under these factors in Section V, EPA will consider the information provided by the applicant and may also consider relevant information from other sources, including information from EPA files and from current and prior Federal agency grantors (e.g., to verify and/or supplement the information provided by the applicant). If you do not have any relevant or available past performance or reporting information, please indicate this in the proposal and you will receive a neutral score for these factors under Section V.

In addition, provide information on your organizational experience and plan for timely and successfully achieving the objectives of the proposed project, and your staff expertise/qualifications, staff knowledge, and resources or the ability to obtain them, to successfully achieve the goals of the proposed project.

Tracking and Measuring Environmental Results: Describe your plan for tracking, measuring, and reporting progress toward achieving the expected project outputs and outcomes, including those identified in Section I. The applicant must describe the ability to specify and measure the expected environmental outcomes/outputs and performance measures to be accomplished as a result of the project. See Environmental Results Order 5700.7 at http://www.epa.gov/ogd/grants/award/5700.7.pdf.

Project Milestones

Milestones: Specify milestones and/or final products and projected due dates, including Project Start and End.

Education

Education/Outreach Component: Identify whether project includes an education/outreach component. If applicable, describe the target audience and how that group would be impacted by the project.

Collaboration

Collaboration/Partnerships: Describe plans and status of collaboration and partnerships amongst the public, private, and independent sectors.

Project Budget

Budget: Specify how the total of EPA funds and Applicant funds will be used for the following: personnel/salaries, fringe benefits, travel, equipment, supplies, contract costs, and other costs. Include narrative descriptions for costs you identify as “contract” or “other”. You may include a separate line for indirect costs if your organization has in place (or will negotiate) an “indirect cost rate.” Budget should represent the project total and the total which would be requested from EPA for the project's duration. Funding is not assured for subsequent years for any project.

Leveraging Funding

Other Funding: If others are expected to contribute funds to your Project, list Name(s) of providers, amount provided, and commitments made by each. Describe how the applicant will obtain the leveraged resources and what role EPA funding will play in the overall project.

Other Information

To the extent not otherwise addressed above, include information addressing the threshold eligibility criteria in Section III and ranking criteria in Section V.

V. Application Review Information

Criteria

Each eligible proposal that meets all of the threshold eligibility criteria in Section III will be evaluated according to the criteria set forth below. Applicants should directly and explicitly address these criteria as part of their proposal submittal. Each proposal will be rated under a points system with a total of 100 points possible.

1. Relevance/Rationale: (15 points)

a. Importance and/or relevance and applicability of the proposed approach to the Gulf of Mexico Alliance Governors' Action Plan and the level of support for long-term goals and implementation actions. (5 points).

b. Whether there is intrinsic value in the proposed work and/or relevance to the Governors' Action Plan and activities. (5 points).

c. Likelihood that the approach proposed will make substantial progress toward strategies leading to improving the health of the Gulf of Mexico and achieving one or more of the environmental outcomes as identified in the announcement. (5 points).

2. Scientific/Professional Merit: (15 points)

Extent to which the proposed approach is technically sound and/or innovative; whether the proposed methods, approaches, and concepts are appropriate and; whether there are clear goals and objectives.

3. Programmatic Capability: (15 points)

Under this criterion, applicants will be evaluated based on their ability to successfully complete and manage the proposed project taking into account the following factors: (i) Its past performance in successfully completing and managing federally funded assistance agreements similar in size, scope, and relevance to the proposed project performed within the last 3 years, (ii) its history of meeting reporting requirements under federally funded assistance agreements similar in size, scope, and relevance to the proposed project performed within the last 3 years and submitting acceptable final technical reports under those agreements, (iii) its organizational experience and plan for timely and successfully achieving the objectives of the proposed project, and (iv) its staff expertise/qualifications, staff knowledge, and resources or the ability to obtain them, to successfully achieve the goals of the proposed project.

Note: In evaluating applicants under this criterion, the Agency will consider the information provided by the applicant and may also consider relevant information from other sources including agency files and prior/current grantors (e.g., to verify and/or supplement the information supplied by the applicant). Applicants with no relevant or available past performance or reporting history (items i and ii above), will receive a neutral score for those elements of this criterion.

4. Environmental Results Past Performance: (10 points)

Applicants will be evaluated based on the extent and quality to which they adequately documented and/or reported on their progress towards achieving the expected results (e.g., outcomes and outputs) under Federal agency assistance agreements performed within the last three years, and if such progress was not being made whether the applicant adequately documented and/or reported why not.

Note: In evaluating applicants under this factor, EPA will consider the information provided by the applicant and may also consider relevant information from other sources including agency files and prior/current grantors (e.g., to verify and/or supplement the information supplied by the applicant). Applicants with no relevant or available past performance reporting history will receive a neutral score for this factor.

5. Environmental Results—Measurable or Quantifiable Outputs and Outcomes: (10 points)

Includes the degree to which the applicant has provided an evaluative component to the project as requested in Section I, Measuring Environmental Results, in addition to how the applicant's progress and success in achieving the project outputs and outcomes including those identified in Section I will be measured and tracked.

6. Budget (10 points)

The reasonableness and appropriateness of the proposed budget for the level of work proposed and with the expected benefits to be achieved.

7. Collaboration/Partnerships: (15 points)

The quality of proposed partnerships, including the degree of broad participation within the network of Gulf of Mexico programs, organizations, State and Federal agencies and workgroups, etc., and demonstration of significant partnering that results in outreach and education. Applications will also be evaluated on whether they provide a partnership with a focused and effective education and outreach strategy regarding the long-term commitment to the proposed objectives of the Action Plan.

8. Leveraged Resources: (10 points)

Under this criteria, applicants will be evaluated based on the extent they demonstrate (i) how they will coordinate the use of EPA funding with other Federal and/or non Federal sources of funds to leverage additional resources to carry out the proposed project(s) and/or (ii) that EPA funding will compliment activities relevant to the proposed project(s) carried out by the applicant with other sources of funds or resources. Applicants may use their own funds or other resources for a voluntary match or cost share if the standards at 40 CFR 30.23 or 40 CFR 31.24, as applicable, are met. Only eligible and allowable costs may be used for matches or cost shares. Other Federal grants may not be used as matches or cost shares without specific statutory authority (e.g. HUD's Community Development Block Grants).

Review and Selection Process

The evaluation and selection process will include the following steps:

Steps

1. Screening for threshold eligibility by the Gulf of Mexico Program Office.

2. Review and score eligible proposals against the Section V criteria (Reviewers/Panel)

3. Panel to rank all eligible proposals according to total score.

4. Panel identifies proposals for funding consideration based on the review.

5. The Approval Official makes the final funding recommendations based on the review panel rankings and may also consider project diversity and programmatic balance/priorities in making the recommendations.

6. Announce selections.

7. Contact selected applicants and request a completed grant application and final workplan.

8. Final Applications/Workplans reviewed and submitted for Funding Award.

EPA employees as well as GMP reviewers and/or panel members who intend to serve as reviewers and score project proposals will be required to sign a Conflict of Interest Disclosure Form and will not be able to serve as a reviewer if they have a personal, familial, or financial or any other type of conflict of interest with any applicant that cannot be mitigated. If an individual has a conflict of interest with respect to a proposal, then they cannot review any proposals under this competition.

The Director of the Gulf of Mexico Program is the Approval Official who will make the final selection recommendations.

Anticipated Announcement Date

GMPO will post a list of all proposals selected for funding on or about August 31, 2006. The list will be posted at the following site: http://www.epa.gov/gmpo. All applicants, including those who are not selected for funding will be notified within 15 days by e-mail and postal mail.

VI. Award Administration Information

Award Notices

EPA has 60 days to issue an award following receipt of the complete, fundable Application Package. Final funding decisions are based upon the Application Packages.

Pre-award Review for Administrative Capability

Non-profit applicants that are recommended for funding will be subject to pre-award administrative capability reviews consistent with paragraphs 8.b, 8.c, and 9.d of EPA Order 5700.8 http://www.epa.gov/ogd/grants/award/5700_8.pdf and may be required to fill out an “Administrative Capability” form.

In accordance with Executive Order 12579, organizations that have been debarred or suspended from a program by any federal agency will not be eligible to receive an award or subaward through this solicitation.

Administrative and Reporting Requirements

The successful applicant will be required to adhere to the Federal grants requirements, particularly those found in applicable OMB circulars on Cost Principles (A-21, A-87, or A-122), Administrative Requirements (A-102 or 110), and Audit Requirements (A-133) available from http://www.whitehouse.gov/omb/grants/. This includes government-wide requirements pertaining to accounting standards, lobbying, minority or woman business enterprise, publication, meetings, construction, and disposition of property. EPA regulations governing assistance programs and recipients are codified in Title 40 of the Code of Federal Regulations. Those requirements, GMPO-specific requirements currently in effect, and the application materials that will be needed by applicants ultimately selected in this process can be found at http://www.epa.gov/gmpo. The successful Federal applicant will be required to comply with the OMB Circular and appropriate sections of Title 40 of the Code of Federal Regulations determined applicable by GMPO. This determination will be embodied in the terms and conditions of an interagency agreement.

Dispute Resolution Process

Assistance agreement competition-related disputes involving any applicant, including Federal applicants, will be resolved in accordance with the dispute resolution procedures published in 70 FR (Federal Register) 3629, 3630 (January 26, 2005) which can be found at http://a257.g.akamaitech.net/7/257/2422/01jan20051800/edocket.access.gpo.gov/2005/05-1371.htm. Copies of these procedures may also be requested by contacting coblentz.esther@epa.gov.

Other Requirements

Please note that this is not a complete list of all regulations and policies that govern these funds. Our Grants Management Office Web site at http://www.epa.gov/region4/grants/regulations.html identifies other grant regulations that apply.

VII. Agency Contact

FOR FURTHER INFORMATION CONTACT: Esther Coblentz, Coblentz.esther@epa.gov, Phone: 228-688-1281.

In accordance with EPA's Assistance Agreement Competition Policy (EPA Order 5700.5A1), EPA staff will not meet with individual applicants to discuss draft proposals, provide informal comments on draft proposals, or provide advice to applicants on how to respond to ranking criteria. Applicants are responsible for the contents of their applications/proposals. However, EPA will respond to questions in writing from individual applicants regarding threshold eligibility criteria, administrative issues related to the submission of the proposal, and requests for clarification about the announcement.

VIII. Other information

Funding amounts are estimates of the maximum amount expected to be available for FY 2006-2007, based on our best available information. These amounts are subject to change without further notification, based on the amount of federal funds actually appropriated and allocated for these programs.

Although an Application for Federal Assistance (Standard Form 424 and attachments) is not required when the proposal is submitted, we encourage you to review our grant application package at http://www.epa.gov/gmpo to become familiar with the information and certifications that will be required if your proposal is selected for funding.

Dated: June 8, 2006.
Gloria D. Car,
Deputy Director, Gulf of Mexico Program Office.

[FR Doc. E6-9362 Filed 6-14-06; 8:45 am]

BILLING CODE 6560-50-P